NUCLEAR REGULATORY COMMISSION

Dominion Nuclear North Anna, LLC

[Docket No. 52-008]

Notice of Availability of Final Environmental Impact Statement for an Early Site Permit (ESP) at the North Anna ESP Site

Notice is hereby given that the U.S. Nuclear Regulatory Commission (NRC) has published NUREG-1811, “Environmental Impact Statement (EIS) for an Early Site Permit (ESP) at the North Anna ESP Site: Final Report” (FEIS). The FEIS contains two volumes. The site is located in Louisa County, Virginia, near the Town of Mineral. A notice of availability of the draft EIS was published in the Federal Register on December 12, 2004 (69 FR 71854), and a supplement to the draft EIS was subsequently published on July 12, 2006 (71 FR 39372).

The purpose of this notice is to inform the public that the FEIS is available for public inspection in the NRC Public Document Room (PDR) located at One White Flint North, 11555 Rockville Pike (First Floor), Rockville, Maryland 20852, or from the Publicly Available Records component of NRC's Agencywide Documents Access and Management System (ADAMS), and will also be placed directly on the NRC Web site at www.nrc.gov. ADAMS is accessible from the NRC Web site at www.nrc.gov/reading-rm/adams.html (the Public Electronic Reading Room). Persons who do not have access to ADAMS, or who encounter problems in accessing the documents located in ADAMS, should contact the PDR reference staff by telephone at 1-800-397-4209 or 1-301-415-4737, or by e-mail at pdr@nrc.gov. In addition, the following public libraries in the vicinity of the North Anna ESP Site have agreed to make the FEIS available for public inspection:

Louisa County Library, Jefferson-Madison Regional Library, 881 Davis Highway, Mineral, Virginia 23117.

Hanover Branch Library, 7527 Library Drive, Hanover, Virginia 23069.

Salem Church Library, 2607 Salem Church Road, Fredericksburg, Virginia 22407.

FOR FURTHER INFORMATION CONTACT: Jack Cushing, Environmental Projects Branch 1, Division of Site and Environmental Reviews, Office of New Reactors, U.S. Nuclear Regulatory Commission, Washington, DC 20555-0001. Mr. Cushing may be contacted by telephone at 301-415-1424, or by e-mail at jxc9@nrc.gov.

Dated at Rockville, Maryland, this 14th day of December, 2006.
For the Nuclear Regulatory Commission.
James E. Lyons,
Director, Division of Site and Environmental Reviews, Office of New Reactors.

[FR Doc. E6-21804 Filed 12-20-06; 8:45 am]

BILLING CODE 7590-01-P